DEPARTMENT OF HOUSING AND URBAN DEVELOPMENT

[Docket No. FR-5374-N-32]

Buy American Exceptions Under the American Recovery and Reinvestment Act of 2009

AGENCY: Office of the Assistant Secretary for Public and Indian Housing, HUD.

ACTION: Notice.

SUMMARY: In accordance with the American Recovery and Reinvestment Act of 2009 (Pub. L. 111-05, approved February 17, 2009) (Recovery Act), and implementing guidance of the Office of Management and Budget (OMB), this notice advises that certain exceptions to the Buy American requirement of the Recovery Act have been determined applicable for work using Capital Fund Recovery Formula and Competition (CFRFC) grant funds. Specifically, exceptions were granted to the Malden Housing Authority of Malden, MA for the purchase and installation of side opening Uniform Federal Accessibility Standards-compliant (UFAS-compliant) ovens for the Linden Homes project, and to the Philadelphia Housing Authority for the purchase and installation of ductless split air conditioning systems for its scattered sites projects and convection microwave ovens for its scattered sites projects and its Plymouth Halls project.

FOR FURTHER INFORMATION CONTACT: Donald J. LaVoy, Deputy Assistant Secretary for Office of Field Operations, Office of Public and Indian Housing, Department of Housing and Urban Development, 451 7th Street, SW., Room 4112, Washington, DC 20410-4000, telephone number 202-402-8500 (this is not a toll-free number); or Dominique G. Blom, Deputy Assistant Secretary for Public Housing Investments, Office of Public Housing Investments, Office of Public and Indian Housing, Department of Housing and Urban Development, 451 7th Street, SW., Room 4130, Washington, DC 20410-4000, telephone number 202-402-8500 (this is not a toll-free number). Persons with hearing- or speech-impairments may access this number through TTY by calling the toll-free Federal Relay Service at 800-877-8339.

SUPPLEMENTARY INFORMATION: Section 1605(a) of the Recovery Act provides that none of the funds appropriated or made available by the Recovery Act may be used for a project for the construction, alteration, maintenance, or repair of a public building or public work unless all of the iron, steel, and manufactured goods used in the project are produced in the United States. Section 1605(b) provides that the Buy American requirement shall not apply in any case or category in which the head of a Federal department or agency finds that: (1) Applying the Buy American requirement would be inconsistent with the public interest; (2) iron, steel, and the relevant manufactured goods are not produced in the U.S. in sufficient and reasonably available quantities or of satisfactory quality; or (3) inclusion of iron, steel, and manufactured goods will increase the cost of the overall project by more than 25 percent. Section 1605(c) provides that if the head of a Federal department or agency makes a determination pursuant to section 1605(b), the head of the department or agency shall publish a detailed written justification in the Federal Register.

In accordance with section 1605(c) of the Recovery Act and OMB's implementing guidance published on April 23, 2009 (74 FR 18449), this notice advises the public that the following exceptions were granted:

1. Malden Housing Authority. On July 21, 2011, upon request of the Malden Housing Authority, HUD granted an exception to applicability of the Buy American requirements with respect to work, using CFRFC grant funds, in connection with the Linden Homes project. The exception was granted by HUD on the basis that the relevant manufactured goods (UFAS-compliant side opening ovens) are not produced in the U.S. in sufficient and reasonably available quantities or of satisfactory quality.

2. Philadelphia Housing Authority. On July 6, 2011, upon request of the Philadelphia Housing Authority, HUD granted an exception to applicability of the Buy American requirements with respect to work, using CFRFC grant funds, in connection with its scattered sites project. The exception was granted by HUD on the basis that the relevant manufactured goods (ductless split air conditioning systems) are not produced in the U.S. in sufficient and reasonably available quantities or of satisfactory quality.

3. Philadelphia Housing Authority. On July 21, 2011, upon request of the Philadelphia Housing Authority, HUD granted an additional exception to applicability of the Buy American requirements with respect to work, using CFRFC funds, in connection with its scattered sites project. The exception was granted by HUD on the basis that the relevant manufactured goods (convection microwave ovens) are not produced in the U.S. in sufficient and reasonably available quantities or of satisfactory quality.

4. Philadelphia Housing Authority. On August 1, 2011, upon request of the Philadelphia Housing Authority, HUD granted an additional exception to applicability of the Buy American requirements with respect to work, using CFRFC funds, in connection with the Plymouth Halls project. The exception was granted by HUD on the basis that the relevant manufactured goods (convection microwave ovens) are not produced in the U.S. in sufficient and reasonably available quantities or of satisfactory quality.

Dated: August 11, 2011.
Sandra B. Henriquez,
Assistant Secretary for Public and Indian Housing.

[FR Doc. 2011-21436 Filed 8-22-11; 8:45 am]

BILLING CODE 4210-67-P